DEPARTMENT OF HOMELAND SECURITY

Coast Guard

[USCG-2009-0065]

National Offshore Safety Advisory Committee

AGENCY: Coast Guard, DHS.

ACTION: Notice of open teleconference meeting.

SUMMARY: This notice announces a teleconference meeting of the National Offshore Safety Advisory Committee (NOSAC) to discuss items listed in the agenda as well as other items that NOSAC may consider. This meeting will be open to the public.

DATES: The teleconference call will take place on Thursday, February 26, 2009, from 10 a.m. to 11 a.m. EST. This meeting may close early if all business is finished. Written material and requests to make oral presentations should reach the Coast Guard on or before February 25, 2009. Requests to have a copy of your material distributed to each member of the committee should reach the Coast Guard on or before February 25, 2009.

ADDRESSES: The Committee will meet, via telephone conference, on February 26, 2009. Members of the public wishing to participate may contact Commander P.W. Clark at 202-372-1410 for call in information or they may participate in person by coming to Room 1303, U.S. Coast Guard Headquarters Building, 2100 Second Street, SW., Washington, DC 20593. As there are a limited number of teleconference lines, public participation will be on a first come basis. Written comments should be sent to Commander P.W. Clark, Designated Federal Officer of NOSAC, Commandant (CG-5222), 2100 Second Street, SW., Washington, DC 20593-0001; or by fax to 202-372-1926. This notice is available on our online docket, USCG-2009-0065, at http://www.regulations.gov.

FOR FURTHER INFORMATION CONTACT: Commander P.W. Clark, Designated Federal Officer of NOSAC, or Mr. Jim Magill, Assistant Designated Federal Officer, telephone 202-372-1414, fax 202-372-1926.

SUPPLEMENTARY INFORMATION: Public participation is welcome and the public may participate in person by coming to Room 1303, U.S. Coast Guard Headquarters Building, 2100 Second Street, SW., Washington, DC 20593 or by contacting COMMANDER P.W. Clark at 202-372-1410 for call in information. Notice of this meeting is given under the Federal Advisory Committee Act, 5 U.S.C. App. 2.

Agenda of Meeting

The agenda for the February 26, 2009 Committee meeting is as follows:

(1) Introduction of Committee members and the public.

(2) Discussion of a Coast Guard request for data on foreign vessels arriving on the U.S. Outer Continental Shelf from abroad.

(3) Committee vote on acceptance of the aforementioned data and a decision on providing this data to the Coast Guard.

(4) Coast Guard update on proposed changes to NVIC 03-06, Change 1.

(5) Update on work by Subcommittee on Foreign Citizens engaged in OCS Activities.

Procedural

This meeting is open to the public. Please note that the meeting may close early if all business is finished. At the Chair's discretion, members of the public may make oral presentations during the meeting. If you would like to make an oral presentation at a meeting, please notify the DFO no later than February 25, 2009. Written material for distribution at a meeting should reach the Coast Guard no later than February 25, 2009.

Minutes

The teleconference will be recorded, and a summary will be available for public review and copying 30 days following the teleconference meeting.

Information on Services for Individuals With Disabilities

For information on facilities or services for individuals with disabilities or to request special assistance at the meeting, contact Mr. Jim Magill at 202-372-1414 as soon as possible.

Dated: February 3, 2009.
Howard L. Hime,
Acting Director of Commercial Regulations and Standards.

[FR Doc. E9-3299 Filed 2-11-09; 4:15 pm]

BILLING CODE 4910-15-P